DEPARTMENT OF THE INTERIOR

Bureau of Land Management

[CA-330-1220-MA]

Notice of Temporary Restriction Order

AGENCY: Bureau of Land Management, Interior.

SUMMARY: The U.S. Department of the Interior, Bureau of Land Management (BLM), Arcata Field Office will establish temporary restrictions pursuant to the Code of Federal Regulations, 43 CFR 8341.2 and 8364.1, to implement interim management guidelines for certain BLM-administered public lands hereafter referred to as “Lost Coast Headlands,” located in Township 2 North, Range 3 West, portions of Sections 13 and 24, Humboldt County, California. Lost Coast Headlands consists of approximately 400 acres and is located along the coastal bluffs approximately 6 miles southwest of Ferndale, CA. These restrictions are needed on a temporary basis until a Resource Management Plan (RMP) Amendment, which will be initiated in 2007, is completed for the area. The area is now open to dispersed recreation with an emphasis on accommodating pedestrian and equestrian access to the coastline. The temporary restrictions are as follows:

The area will be open to day use, from one hour before sunrise to one hour after sunset; overnight camping, campfires, firearms use, and archery use will not be allowed; and motorized vehicle use off maintained roads and parking areas will not be allowed.

Employees, agents, and permitees of the BLM may be exempt from these restrictions for administrative and emergency purposes only.

Penalties include a fine not to exceed $1,000 and/or imprisonment not to exceed 12 months, and violators may be subject to the enhanced penalties under 18 U.S.C. 3571 and 18 U.S.C. 3581.

These restrictions are necessary to (1) Protect aquatic and terrestrial species from the effects of unregulated impacts, (2) ensure public safety, (3) reduce the potential for wildfires in this wildland urban interface, and (4) minimize inadvertent trespass onto adjoining private property. They will remain in effect until the RMP Amendment, with full public participation, is completed.

DATES: These temporary restrictions will be effective on March 16, 2007 and once they are posted at the designated site location and the BLM Arcata Field Office.

ADDRESSES: Maps and supporting documentation are available for review at the following location: Bureau of Land Management, Arcata Field Office, 1695 Heindon Road, Arcata, CA, 95521.

FOR FURTHER INFORMATION CONTACT: Lynda J. Roush, BLM, Arcata Field Manager, 1695 Heindon Road, Arcata, CA 95521. Ms. Roush may also be contacted by telephone: (707) 825-2300.

SUPPLEMENTARY INFORMATION: The BLM recently acquired two parcels, totaling approximately 400 acres, thanks to the cooperative effort and funding by the California Coastal Conservancy and The Conservation Fund as a third party cooperator. The parcels cover approximately 3 miles of rugged coastal bluffs and include 2 small beach areas at the mouths of Guthrie Creek and Fleener Creek. Located at the south end of the area is a small parking area and hiking/equestrian trail that provides access to the beach. At the north end of the area, another parking area exists with a beach access trail to be constructed during the summer of 2006.

A considerable amount of public scoping occurred during the acquisition process. During the scoping, adjoining residents and ranchers and other members of the public expressed concerns regarding trespassing onto private property, safety of the public and adjacent residents related to firearms use, and the increased fire danger that would occur from overnight camping and associated campfires. The BLM assured these neighboring owners that their concerns would be addressed in a comprehensive plan for the area that incorporated full public involvement.

The BLM will limit use of the Lost Coast Headlands to daytime access, that is, beginning one hour before sunrise and ending one hour after sunset. Motorized vehicles will be limited to use along the county road and designated parking areas. These two temporary restrictions will provide interim protection for a threatened species, the Northern California Steelhead, and its aquatic habitat and associated riparian vegetation. By taking this interim action, the BLM contributes to the conservation of a threatened species in accordance with Section 7(a)(1) of the Endangered Species Act, 16 U.S.C. 1536(a)(1). The camping and campfire restriction will also reduce the potential for wildfires, which could otherwise occur in this area of flashy fuels (dry grass). The temporary firearms and archery use restrictions are needed to prevent accidents and ensure public safety in this relatively small public land area, due to the proximity of these lands to residences and cattle pastures. Inadvertent trespass onto adjoining private lands will be reduced.

These temporary restrictions will be posted in the BLM Arcata Field Office and at places near and/or within the affected public lands.

Dated: December 18, 2006.
Donald Holmstrom,
Assistant Arcata Field Manager.

[FR Doc. E7-2420 Filed 2-13-07; 8:45 am]

BILLING CODE 4310-40-P